DEPARTMENT OF DEFENSE

Office of the Secretary

National Security Education Board (NSEB); Notice of Federal Advisory Committee Meeting

AGENCY: Under Secretary of Defense for Personnel and Readiness (USD(P&R)), Department of Defense (DoD).

ACTION: Notice of federal advisory committee meeting.

SUMMARY: The DoD is publishing this notice to announce that the following Federal Advisory Committee meeting of the NSEB will take place.

DATES: Open to the public on Thursday, December 15, 2022, from 9:00 a.m. Eastern Standard Time (EST) to 1:00 p.m. EST.

ADDRESSES: The meeting will be held at 1350 Eye Street NW, Washington, DC 22205.

FOR FURTHER INFORMATION CONTACT: Ms. Alison Patz, (571) 329-3894 (Voice), alison.m.patz.civ@mail.mil (Email). Mailing address is National Security Education Program, 4800 Mark Center Drive, Suite 08F09-02, Alexandria, VA 22350-7000. Website: https://dlnseo.org/Governance/NSEB.

SUPPLEMENTARY INFORMATION: Due to circumstances beyond the control of the DoD and the Designated Federal Officer, the NSEB was unable to provide public notification required by 41 CFR 102-3.150(a) concerning its December 15, 2022 meeting of the NSEB. Accordingly, the Advisory Committee Management Officer for the Department of Defense, pursuant to 41 CFR 102-3.150(b), waives the 15-calendar day notification requirement.This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review and make recommendations to the Secretary of Defense concerning requirements established by the David L. Boren National Security Education Act, Title VII of Public Law 102-183, as amended. Agenda: 9:00 a.m. EST—NSEB Full Meeting Begins.

9:15 a.m. EST—National Security Education Program (NSEP) Statutory Resonsibilities.

9:45 a.m. EST—30 Years of NSEP: Programs Retrospective.

11:15 a.m. EST—Break.

11:30 a.m. EST—Senior Stakeholders Perspectives.

12:15 p.m. EST—Lunch.

1:00 p.m. EST—Board Discussion.

Meeting Accessibility: Pursuant to 5 U.S.C. 552b and 41 CFR 102-3.140 through 102-3.165, this meeting is open to the public, subject to the availability of space.

Written Statements: This meeting is being held under the provisions of the Federal Advisory Committee Act (FACA) of 1972 (5 U.S.C., Appendix, as amended), the Government in the Sunshine Act of 1976 (5 U.S.C. 552b, as amended), and 41 CFR 102-3.140 and 102-3.150. Pursuant to 102-3.140 and sections 10(a)(3) of the Federal Advisory Committee Act of 1972, the public or interested organizations may submit written statements to the DoD NSEB about its mission and functions. Written statements may be submitted at any time or in response to the stated agenda of the planned meeting. All written statements shall be submitted to the point of contact at the email address or phone number listed in the FOR FURTHER INFORMATION CONTACT section, and this individual will ensure that the written statements are provided to the membership for their consideration. Statements being submitted in response to the agenda items mentioned in this notice must be received by the point of contact listed in the FOR FURTHER INFORMATION CONTACT section at least five calendar days prior to the meeting that is the subject of this notice. Written statements received after this date may not be provided to or considered by the NSEB until its next meeting.

Dated: November 30, 2022.
Kayyonne T. Marston,
Alternate OSD Federal Register Liaison Officer, Department of Defense.

[FR Doc. 2022-26405 Filed 12-2-22; 8:45 am]

BILLING CODE 5001-06-P